DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Port Authority Trans-Hudson Corporation

[Docket Number FRA-2002-12936]

The Port Authority Trans-Hudson Corporation (PATH) seeks a temporary waiver of compliance until December 31, 2003, for one locomotive from the requirements of the Railroad Safety Appliance Safety Standards, 49 CFR 231.30(a)(2), which requires all locomotives used in switching service built prior to April 1, 1977, be equipped with four switching steps. The locomotive for which the waiver is requested is a 42-ton General Electric diesel switcher style locomotive without switching steps. PATH is leasing the locomotive for use by a contractor. They also state that the locomotive was refurbished in April 2002, and that it is physically impossible to modify the locomotive to incorporate switching steps.

If the request is granted, PATH will utilize the locomotive during the reconstruction of their system damaged during the terrorist attack on the World Trade Center on September 11, 2001. The locomotive would be utilized to transport materials and equipment to and from a construction site at a speed not to exceed 15 mph. PATH needs the waiver because the locomotive would travel for approximately one mile over PATH's main line, from PATH's “C” yard in Jersey City, New Jersey to Exchange Place Station. The construction site extends west of Exchange Place and is off limits to any passenger service.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12936) and must be submitted to the Docket Clerk, DOT Central Docket Management Facility, Room PL-401 (Plaza Level), 400 Seventh Street, SW., Washington, DC 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on September 25, 2002.
Grady C. Cothen, Jr.,
Deputy Associate Administrator for Safety Standards and Program Development.

[FR Doc. 02-25406 Filed 10-4-02; 8:45 am]

BILLING CODE 4910-06-P